DEPARTMENT OF STATE

[Public Notice 4299]

Bureau of Educational and Cultural Affairs Request for Grant Proposals: Central and Eastern European Professional Exchanges and Training Program for Albania, Bosnia-Herzegovina, Bulgaria, Croatia, Estonia, Kosovo, Latvia, Lithuania, Macedonia, Romania, and Serbia and Montenegro

SUMMARY: The Europe/Eurasia division of the Office of Citizen Exchanges of the Bureau of Educational and Cultural Affairs announces an open competition for Central and Eastern European Professional Exchanges and Training Programs for Albania, Bosnia-Herzegovina, Bulgaria, Croatia, Estonia, Kosovo, Latvia, Lithuania, Macedonia, Romania, and Serbia and Montenegro. Public and private non-profit organizations meeting the provisions described in Internal Revenue Code section 26 U.S.C. 501(c)(3) may submit proposals that support international projects in the United States and overseas involving current or potential leaders.

Interested applicants should read the complete Federal Register announcement before addressing inquiries to the Office of Citizen Exchanges or submitting proposals.

Announcement Title and Number: All correspondence with the Bureau concerning this RFGP should reference the above title and number ECA/PE/C/EUR-03-39.

FOR FURTHER INFORMATION CONTACT: The Office of Citizen Exchanges, ECA/PE/C/EUR, Room 224, U.S. Department of State, SA-44, 301 4th Street, SW., Washington, DC 20547, Attention: Central and Eastern Europe Professional Exchanges and Training Program, telephone number: 202-205-3003, fax number 202-619-4350 or kturner@pd.state.gov to request a Solicitation Package. The Solicitation Package contains detailed award criteria, required application forms, specific budget instructions, and standard guidelines for proposal preparation.

For specific inquiries, please contact Bureau program officers by phone or e-mail: Kendra Davis (202) 619-5328 (kldavis@pd.state.gov); Michael George (202) 619-5330 (mdgeorge@pd.state.gov); Brent Beemer (202) 401-6887 (bbeemer@pd.state.gov); or Henry Scott (202) 619-5327 (hscott@pd.state.gov).

Please read the complete Federal Register announcement before sending inquiries or submitting proposals. Once the RFGP deadline has passed, Bureau staff may not discuss this competition with applicants until the proposal review process has been completed.

To Download a Solicitation Package via Internet

The entire Solicitation Package may be downloaded from the Bureau's Web site at http://exchanges.state.gov/education/RFGPs. Please read all information before downloading.

General Program Guidelines

Applicants should identify the local organizations and individuals in the counterpart country with whom they are proposing to collaborate and describe in detail previous cooperative programming and/or contacts. Specific information about the counterpart organizations' activities and accomplishments should be included in the section on Institutional Capacity. Proposals should contain letters of support tailored to the project being proposed from foreign-country partner organizations.

Exchanges and training programs supported by institutional grants from the Bureau should operate at two levels: they should enhance institutional partnerships, and they should offer practical information and experience to individuals and groups to assist them with their professional responsibilities. Strong proposals usually have the following characteristics:

• A proven track record of working in the proposed issue area and country;

• Experienced staff with language facility and a commitment by the staff to monitor projects locally to ensure implementation;

• A clear, convincing plan showing how permanent results will be accomplished as a result of the activity funded by the grant; and

• A follow-on plan that includes activities beyond the conclusion and scope of the Bureau grant.

Proposal narratives should clearly demonstrate an organization's commitment to consult closely with the Public Affairs Section, and when required, other officers at the U.S. Embassy. Proposal narratives must confirm that all materials developed for the project will acknowledge Bureau funding for the program as well as a commitment to invite representatives of the Embassy and/or Consulate to participate in various program sessions/site visits. Please note that this will be a formal requirement in all final grant awards.

Organizations with less than four years of experience managing international exchange programs are limited to requesting $60,000 in funds.

Suggested Program Designs

Bureau-supported exchanges may include internships; study tours; short-term, non-technical experiential learning, extended and intensive workshops and seminars taking place in the United States or overseas. Examples of program activities include:

1. A U.S.-based program that includes: Orientation to program purposes and to U.S. society; study tour/site visits; professional internships/placements; interaction and dialogue; hands-on training; professional development; and action plan development. Proposals that include U.S.-based training will receive the highest priority.

2. Capacity-building/training-of-trainer (TOT) workshops to help participants to identify priorities, create work plans, strengthen professional and volunteer skills, share their experience with committed people within each country, and become active in a practical and valuable way.

3. Site visits by U.S. facilitators/experts to monitor projects in the region and to provide additional training and consultations as needed.

Activities ineligible for support: The Office does not support proposals limited to conferences or seminars (i.e., one to fourteen-day programs with plenary sessions, main speakers, panels, and a passive audience). It will support conferences only when they are a small part of a larger project in duration that is receiving Bureau funding from this competition. The Office will only support workshops, seminars and training sessions that are an integral part of a larger project. No funding is available exclusively to send U.S. citizens to conferences or conference-type seminars overseas; nor is funding available for bringing foreign nationals to conferences or to routine professional association meetings in the United States.

Selection of Participants

All grant proposals should clearly describe the type of persons who will participate in the program as well as the participant selection process. For programs that include U.S. internships, applicants should submit letters of support from host institutions. In the selection of foreign participants, the Bureau and U.S. Embassies will review all participant nominations and may accept or refuse participants recommended by grantee institutions. When American participants are selected, grantee institutions must provide their names and brief biographical data to the Office of Citizen Exchanges. Priority in two-way exchange proposals will be given to foreign participants who have not previously traveled to the United States. (See section below on requirements for maintenance of and provision to the Bureau of data on participants and program activities.)

Evaluation

In general, evaluation should occur throughout the project. The evaluation should incorporate an assessment of the program from a variety of perspectives. Specifically, project assessment efforts will focus on: (a) Determining if objectives are being met or have been met, (b) identifying any unmet needs, and (c) assessing if the project has effectively identified resources, advocates, and financial support for the sustainability of future projects. Informal evaluation through discussions and other sources of feedback will be carried out throughout the duration of the project.

Formal evaluation must be conducted at the end of each component, should measure the impact of the activities and should obtain participants' feedback on the program content and administration. A detailed evaluation will be conducted at the conclusion of the project and a report will be submitted to the Department of State Bureau of Educational and Cultural Affairs. When possible, the evaluation should be conducted by an independent evaluator.

Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA/PE/C/EUR Program Officer at least three work days prior to the official opening of the activity.

Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grants under this RFGP will be third parties “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to fully comply with 22 CFR part 62 et seq.The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR 62. If the applicant has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Program Information

Overview

The Bureau welcomes proposals that respond directly to the themes and countries listed below. Given budgetary considerations, projects in countries and for themes other than those listed will not be eligible for consideration and will be ruled technically ineligible. No guarantee is made or implied that grants will be awarded in all categories.

For this competition, both single country and multi-country projects are eligible for support. In order to prevent duplication of effort, proposals should reflect an understanding of the work of international agencies so that projects complement—not duplicate—other assistance programs.

Two-way exchanges will be given the highest priority. Applicants should carefully review the following recommendations for proposals in Central and Eastern European countries.

To be eligible for a grant award under this competition, the proposed professional training and exchange projects must address one of the following specific themes, which are listed below in two categories—Country Specific Programs and Regional Programs.

Country Specific

Library Exchange (Bulgaria only).

Judicial Reform Project (Macedonia only).

Mayors and Local Leaders Exchange (Kosovo only).

Regional Programs

Media Training (Regional Program for Albania and Bosnia-Herzegovina and Bulgaria and Croatia and Macedonia and Serbia and Montenegro).

Prevention of Trafficking in Persons (Regional Program for Albania and Bosnia-Herzegovina and Bulgaria and Croatia and Kosovo and Macedonia and Romania and Serbia and Montenegro).

Anti-corruption and Ethics (Regional program for Latvia and Lithuania and Estonia).

Country Specific (Single Country Projects Only)

Library Exchange

Bulgaria—Single country project only.—ECA is interested in proposals that will enhance institutional relationships between U.S. and Bulgarian libraries. Projects should focus on the practical use of new technologies and the provision of library services for citizens. The exchange should examine the operation of resource centers/small libraries, including strategic planning, traditional and electronic collection development, cooperative management of information resources, public-oriented services, outreach, and marketing techniques. The Union of Librarians and Information Services Officers (the Bulgarian library association) should serve as the in-country partner organization and should assist in the recruitment and selection of participants as well as provide logistical support for any in-country activities. Activities may include training-of-trainers sessions, in-country workshops, initiatives to create professional networks or professional associations, and communication through the Internet or regularly published newsletters. Projects should also take into account the need for ongoing sharing of information, training, and concrete plans for sustainability.

Project funding: The total funding available for the Bulgaria library exchanges is approximately $200,000. The Bureau anticipates awarding one grant under this theme.

Judicial Reform

Macedonia—Single country projects only.—Judicial reform has become increasingly important in Macedonia as the government, legal professionals, and concerned citizens recognize the need for a modern, efficient court system to keep pace with the social, economic, and political changes in their country. Legal experts note that courts in Macedonia are overburdened, inefficient, and unresponsive to citizens.

This program should focus on judges and prosecutors in the Macedonian legal system. The primary aim of the program will be to establish a series of trainings, seminars and on-the-job programs in Macedonia. These programs should aim to strengthen the functions of prosecutors and judges; encourage continual reform of practices; and solidify ethical standards. ECA envisions a mix of U.S.-based trainers and Macedonian-based staff coordinating the program. Another important component of the program will be the inclusion of an established Macedonian partner organization. The hope would be that the Macedonian organization would develop its own programming and could continue to work with judges and prosecutors on its own after the grant program. A U.S. based train-the-trainers component could be included for this purpose. Coordination with the Public Affairs Section of the U.S. Embassy in Skopje during the program is essential.

Project funding: The total funding available for the Macedonia judicial reform project is approximately $200,000. The Bureau anticipates awarding one grant under this theme.

Mayors and Local Leaders Exchange

Kosovo—Single country projects only.—ECA is seeking proposals to conduct an exchange program for mayors and local leaders from Kosovo. This project will support the development of the local government sector and should be designed to offer practical, hands-on experiences for the participants. Topics to be addressed during the project should include financial management, the implementation of national policies at the local level, economic development, infrastructure support and strategic planning.

The project should consist of the following elements:

• The recruitment and selection of approximately ten participants from Kosovo;

• A U.S. component that would include a three- to five-day program in Washington, DC, where participants would be introduced to the U.S. system of government and meet with elected officials and representatives of local and regional government associations and a two- to three-week program in small- to medium-sized U.S. cities.

• In-country workshops and/or consultations that reach out to a wider audience and provide substantive follow-up to the U.S.-based visits.

• Materials development.

Participants should include both elected leaders and civil servants working at the local level. Organizations should demonstrate their ability to recruit and select candidates for participation in the program and describe how these activities will be carried out. Applicants should also identify an in-country partner institution or institutions. The partner(s) should be responsible for assisting in the recruitment and selection of participants and for providing logistical support for any in-country activities.

The proposal submitted by your organization must demonstrate how these activities/objectives will be met. Your proposal narrative should also provide detailed information on major program activities to be undertaken. Applicants should have an understanding of the current situation of Kosovo, and be willing to cooperate with Kosovo-based international organizations as well as the U.S. Office in Pristina.

This office is interested in proposals that enhance institutional relationships and offer practical information to individuals to assist them with their professional responsibilities. The projects should also take into account the need for ongoing sharing of information, training and concrete plans for self-sustainability. Examples include: A “train the trainers” model (a program that includes practice presentation sessions, followed by activities coordinated and implemented by the participants in Kosovo); support for in-country training/resource centers; plans to create professional networks or professional associations; regularly published newsletters; and ongoing Internet communication.

Project funding: The total funding available for the Kosovo mayors and local leaders project is approximately $200,000. The Bureau anticipates awarding one grant under this theme.

Regional Programs

Media Training

Albania, Bosnia-Herzegovina, Bulgaria, Croatia, Macedonia, Serbia and Montenegro—Multi-country projects for all six countries only.—The Bureau is looking for proposals that will provide training for journalists, editors and media managers. The program should include an orientation session lasting approximately four days; an internship assignment of approximately five weeks in a small- to medium-sized media organization; and a two- to three-day debriefing. Projects should include both English-speaking and non-English-speaking participants; proposals should clearly describe what provisions would be made for non-English speakers. ECA will consider proposals to shorten the internships assignment in order to accommodate interpreting services for non-English speakers. ECA strongly encourages the use of locally hired interpreters. Those applicants that opt to find their own interpreters should submit a budget reflecting those costs and should demonstrate in their proposal narrative the ability to competently address interpreting requirements.

Proposals should outline hands-on, practical internships for the participants. A list of media establishments willing to host the participants as well as tentative letters of commitment should be included in the proposal. A sample program schedule or outline of a similar program that the organization has conducted in the past should also be submitted.

Participant Selection: Please note that the winning applicant must consult closely with the Public Affairs Offices at the respective U.S. embassies during program implementation. Embassies will nominate participants for the program.

The Bureau anticipates funding no more than three grants for this theme, averaging approximately $180,000 each. There will be a total of approximately 40 participants funded through this RFGP. Each proposal should accommodate approximately 12-15 participants and should be regional in focus. ECA will consider proposals that include several distinct exchanges during the life of the grant, but all exchange groups should include participants from at least three countries.

Tentative participant numbers and needs are:

Albania: Four participants. English-speakers only.

Bosnia-Herzegovina: Four participants. Two English and two non-English speakers.

Bulgaria: Five participants.

Croatia: Four participants. English-speakers only.

Macedonia: Twelve participants. Six English and six non-English speakers.

Serbia and Montenegro: Fourteen participants. Seven English and seven non-English speakers.

Once projects are funded, ECA will work with the grantees to solicit more detailed information on the needs and interests of individual participants.

Prevention of Trafficking in Persons in Southeastern Europe

Albania, Bosnia-Herzegovina, Bulgaria, Croatia, Macedonia, Romania, Serbia and Montenegro, Kosovo—Multi-Country Projects for all Nine Countries/Regions Only

Trafficking in persons continues to be a widespread problem in Southeastern Europe (SEE). In June 2002 the United States Department of State released its second report on the issue of trafficking in persons worldwide. (Please see http://www.state.gov/g/tip/rls/tiprpt/2002/.) Many SEE countries included in the study are classified as countries that have not taken adequate steps to quell trafficking in persons or to recognize the severity of the problem. The need to educate and inform communities and lawmakers has become imperative to prevent trafficking in the SEE region.

The Bureau seeks proposals that provide training to individuals and communities in the SEE region to help combat trafficking in persons. Programs should be regional in focus and should include cross-border efforts to ensure integration of efforts and cooperation among SEE countries. To avoid duplication of initiatives, applicants should be familiar with international organizations' programs and indigenous SEE non governmental organizations' (NGO) programs to combat trafficking. Applicants should outline relevant thematic and regional expertise in the proposal. Priority will be given to programs that propose to reach high-risk groups where anti-trafficking initiatives have been limited or nonexistent. Proposals must include a timeline for the entire grant period, a schedule for each program activity, subcontract agreements, resumes of trainers and proposed personnel, and letters of support from SEE and U.S. partners. Proposals may address either of the themes listed below. To be competitive, proposals should outline how participants will be selected. Participants should be from the SEE countries listed above and should be afforded networking and information sharing opportunities throughout the grant period. Priority should be given to foreign participants who have not traveled to the U.S. previously. Language and interpreting issues should also be addressed in the proposal. Applicants should expect to work closely with the Public Affairs Sections of the U.S. Embassies in SEE on coordination of all activities, including participant selection.

Pursuant to the Bureau's authorizing legislation, programs must maintain a non-political character. Proposals must demonstrate an understanding of the principles behind the Trafficking Victims Protection Act of 2000 (the “ACT”) and current U.S. government policy, as expressed through Trafficking in Persons National Security Presidential Directive of 2/2/5/03 (http://www.whitehouse.gov/news/releases/2003/02/20030225.html) and Executive Order 13257 (http://nodis3.gsfc.nasa.gov/library/displayEO.cfm?id=EO_13257 )

Areas of focus:

(1) Two-way exchanges and training programs that may address public awareness, victim assistance, reintegration and/or occupational training.

The Bureau is seeking two-way exchange programs that will educate the U.S. and SEE citizenries on the issue of trafficking. Many nongovernmental organizations (NGOs) in SEE have been confronting the issue of trafficking and have much to share with their U.S. counterparts. (Given that many women are now being trafficked into the United States, it is important that U.S. relief and assistance organizations are exposed to effective prevention and assistance programs in SEE.) SEE participants in turn will benefit from exposure to U.S. models for job training and life skills management programs, peer education and economic assistance programs as well as models for successful advocacy and fundraising campaigns on the issue. Participants may be leaders of NGOs, associations, community leaders, teachers and school administrators and local government officials. Follow-up workshops/on site consultations in the region are encouraged after the U.S.-based training. Programs may focus on developing participants' skills to establish job training programs in the region, but funding may not be used for the establishment or maintenance of victims' assistance centers or equipment for such centers. Successful proposals will offer hands-on training, including shadowing and internship opportunities, as well as the development of public awareness campaigns, action plans, publications, web-based information and/or other products that can be accessed easily by the general public and the respective SEE governments.

(2) Training and exchanges for members of parliament (particularly women members), ministry officials, government press spokespeople and local government officials.

The Bureau welcomes proposals that will encourage members of parliament, ministry officials, government press spokespeople and local government officials to take an active stand against trafficking in the SEE region.

Proposals should focus on how government should enforce and/or improve laws or national action plans against trafficking. Proposals should outline a strategy on how governments in the region can increase information sharing and close down trafficking routes in the region. Proposals should also address specifically how training will encourage cooperative and complementary efforts between the government and NGO community regarding the issue. U.S.-based exchanges and follow-up workshops in the region are strongly encouraged. The Bureau is interested in results-oriented proposals that include regional action planning, publications and other work products that will serve to educate government officials and the general public in the SEE region regarding trafficking.

Project Funding

The total funding available for prevention of trafficking programs is approximately $500,000. The Bureau anticipates awarding two or three proposals for this competition averaging approximately $165,00-$250,000 each.

Anti-Corruption and Ethics

Latvia, Lithuania, and Estonia (Multi-Country Project for All Three Countries Only)

The Bureau welcomes proposals for a regional anti-corruption program, designed to improve ethics oversight and management laws and procedures in the Baltic States. The Baltic nations continue to struggle against corruption at various levels of society. Government officials and law enforcement are poorly trained to recognize conflict of interest issues. In addition, ethical codes of conflict and conflict of interest legislation are weak. Unfortunately, influence peddling and conflict of interest can be found at the highest levels. Government employees deal with low salaries; difficult working conditions; lack of support from political leaders and senior administrators; and out-of-date equipment and records.

Citizens have low expectations for government service and can be inclined to view bribes at low levels or embezzlement, conflicts of interest and bribe-taking at high levels as the norm, to be tolerated rather than fought. Education is needed for both the public and civil servants/law enforcement on what each can expect of the other.

Proposals should outline a program that will train both Baltic officials and non-governmental personnel in government ethics issues and their respective roles in guaranteeing adherence to high standards of government ethics. The overall objectives of proposed programs should be to improve ethics oversight and management laws, policies, procedures and institutions in the Baltic states; increase public confidence in governmental institutions by training Baltic officials and non-governmental entities in government ethics issues as well as the role and responsibility of private citizens, the media and the academic community in guaranteeing high standards of government ethics.

Target populations for these programs include: members of Parliament, parliament staff and law enforcement officers responsible for enforcing conflict of interest/corruption legislation, national and municipal officials, government and civics professors from universities, NGO leaders, and media representatives. Proposals should describe a program that engages participants in relevant ethics issues, including the role of public ethics in a democratic society, ethics responsibilities for government officials, and the role of NGOs in monitoring public ethics and corruption.

ECA is looking for programs that include a mix of participants from different governmental and non-governmental institutions to ensure sharing of diverse experiences and build mutual understanding of common public ethics standards. Travel in both directions, including a hands-on, U.S.-based program with a train-the-trainer component, should be proposed. Continuous communication, mentoring, and consultations between overseas participants and trainers/mentors, should be described in detail and conducted throughout the life of the grant. Overseas, programs should be conducted in the form of short courses and include an appropriate public relations component (developed in coordination with U.S. embassies), to highlight the importance of anti-corruption efforts. Proposals should include a programming element that will bring participants from all three countries together to increase the program's regional impact.

Project funding: The total funding available for prevention of trafficking programs is approximately $200,000. The Bureau anticipates awarding one grant for this topic.

Overall Budget Guidelines

Grants awarded to eligible organizations with less than four years of experience in conducting international exchange programs will be limited to $60,000.

Applicants must submit a comprehensive budget for the entire program. There must be a summary budget as well as breakdowns reflecting both administrative and program budgets. Applicants may provide separate sub-budgets for each program component, phase, location, or activity to provide clarification. Please refer to the Solicitation Package for complete budget guidelines and formatting instructions.

Since Bureau grant assistance constitutes only a portion of total project funding, proposals should list and provide evidence of other anticipated sources of financial and in-kind support. While there is no minimum requirement, applicants are encouraged to provide cost sharing to the fullest extent possible. State Department Review Panels will consider cost sharing seriously when evaluating all proposals.

The following program costs are eligible for funding consideration:

1. Travel Costs. International and domestic airfares (per the Fly America Act), transit costs, ground transportation costs, and visas for U.S. participants (J-1 visas for Bureau-supported participants from Eurasia to travel to the U.S. are issued at no charge).

2. Per Diem. For U.S.-based programming, organizations should use the published Federal per diem rates for individual U.S. cities. For activities in Europe/Eurasia, the Bureau strongly encourages applicants to budget realistic costs that reflect the local economy. Domestic per diem rates may be accessed at: http://www.policyworks.gov/ and foreign per diem rates can be accessed at: http://www.state.gov/www/perdiems/index.html.

3. Interpreters. Local interpreters with adequate skills and experience may be used for program activities. The Bureau strongly encourages applicants to use local interpreters. Salary costs for local interpreters must be included in the budget. Costs associated with using their services may not exceed rates for U.S. Department of State interpreters. Typically, one interpreter is provided for every four visitors who require interpreting, with a minimum of two interpreters. Bureau grants do not pay for foreign interpreters to accompany delegations from their home country. U.S. Department of State Interpreters may be used if local interpreters are not available. Proposal budgets should contain a flat $170/day per diem for each U.S. Department of State interpreter, as well as home-program-home air transportation of $400 per interpreter, reimbursements for taxi fares, plus any other transportation expenses during the program. Salary expenses are covered centrally and should not be part of an applicant's proposed budget.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subcontracting organizations may also be used, in which case the written agreement between the prospective grantee and subcontractor should be included in the proposal. Subcontracts should be itemized in the budget.

6. Room rental. Room rental may not exceed $250 per day.

7. Materials development. Proposals may contain costs to purchase, develop and translate materials for participants. The Bureau strongly discourages the use of automatic translation software for the preparation of training materials or any information distributed to the group of participants or network of organizations. Costs for high-quality translation of materials should be anticipated and included in the budget. Grantee organizations should expect to submit a copy of all program materials to the Bureau.

8. Equipment. Proposals may contain costs to purchase equipment for Eurasia-based programming such as computers, fax machines and copy machines. Costs for furniture are not allowed. Equipment costs must be kept to a minimum.

9. Working meal. Only one working meal may be provided during the program. Per capita costs may not exceed $5-8 for a lunch and $14-20 for a dinner, excluding room rental.

The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of a Bureau-sponsored health insurance policy. The premium is paid by the Bureau directly to the insurance company. Applicants are permitted to include costs for travel insurance for U.S. participants in the budget.

12. Wire transfer fees. When necessary, applicants may include costs to transfer funds to partner organizations overseas.

13. Administrative Costs. Costs necessary for the effective administration of the program may include salaries for grantee organization employees, benefits, and other direct and indirect costs per detailed instructions in the Application Package. While there is no rigid ratio of administrative to program costs, priority will be given to proposals whose administrative costs are less than twenty-five (25) per cent of the total requested from the Bureau. Proposals should show strong administrative cost-sharing contributions from the applicant, the in-country partner and other sources.

Deadline for Proposals

All proposal copies must be received at the Bureau of Educational and Cultural Affairs by 5 p.m. Washington, DC time on Friday, May 9, 2003. Faxed documents will not be accepted at any time. Documents postmarked the due date but received on a later date will not be accepted. Each applicant must ensure that the proposals are received by the above deadline.

Applicants must follow all instructions in the Solicitation Package. The original and twelve copies of the application should be sent to: U.S. Department of State, SA-44, Bureau of Educational and Cultural Affairs, Ref.: ECA/PE/C/EUR-03-39, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy, “the Bureau” shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria

Technically eligible applications will be competitively reviewed according to the criteria stated below. These criteria are not rank ordered and all carry equal weight in the proposal evaluation:

1. Program Planning and Ability to Achieve Program Objectives: Program objectives should be stated clearly and should reflect the applicant's expertise in the subject area and region. Objectives should respond to the priority topics in this announcement and should relate to the current conditions in the target countries. A detailed agenda and relevant work plan should explain how objectives will be achieved and should include a timetable for completion of major tasks. The substance of workshops, internships, seminars and/or consulting should be described in detail. Sample training schedules should be outlined. Responsibilities of in-country partners should be clearly described.

2. Institutional Capacity: The proposal should include (1) the U.S. institution's mission and date of establishment (2) detailed information about the in-country partner institution's capacity and the history of the U.S. and in-country partnership (3) an outline of prior awards—U.S. government and private support received for the target theme/region (4) descriptions of experienced staff members who will implement the program. Proposed personnel and institutional resources should be adequate and appropriate to achieve the program's goals. The proposal should reflect the institution's expertise in the subject area and knowledge of the conditions in the target country. Proposals should demonstrate an institutional record of successful exchange programs, including responsible fiscal management and full compliance with all reporting requirements for past Bureau grants as determined by Bureau Grant Staff. The Bureau will consider the past performance of prior recipients and the demonstrated potential of new applicants.

3. Cost Effectiveness and Cost Sharing: Overhead and administrative costs for the proposal, including salaries, honoraria and subcontracts for services, should be kept to a minimum. Priority will be given to proposals whose administrative costs are less than twenty-five (25) per cent of the total funds requested from the Bureau. Applicants are encouraged to cost share a portion of overhead and administrative expenses. Cost-sharing, including contributions from the applicant, the in-country partner, and other sources should be included in the budget request.

4. Support of Diversity: Proposals should demonstrate substantive support of the Bureau's policy on diversity. Achievable and relevant features should be cited in both program administration (selection of participants, program venues and program evaluation) and program content (orientation and wrap-up sessions, program meetings, resource materials and follow-up activities). Applicants should refer to the Bureau's Diversity, Freedom and Democracy Guidelines in the Proposal Submission Instructions (PSI).

5. Follow-on Activities: Proposals should provide a plan for continued follow-on activity (without Bureau financial support) ensuring that Bureau supported programs are not isolated events.

6. Evaluation: Proposals should include a detailed plan to monitor and evaluate the program. A draft survey questionnaire plus a description of a methodology to use to link outcomes to original project objectives should be included. Successful applicants will be expected to submit intermediate reports after each project component concludes or on a quarterly basis, whichever is less frequent.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. The funding authority for this program is provided through the Support for East European Democracies (SEED) Act of 1989.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 6, 2003.
C. Miller Crouch,
Principal Deputy Assistant Secretary, Bureau of Educational and Cultural Affairs, Department of State.

[FR Doc. 03-6083 Filed 3-12-03; 8:45 am]

BILLING CODE 4710-05-P